DEPARTMENT OF LABOR

Employment and Training Administration

[TA-W-57,575]

Milford Stitching Company, Inc., a Division of GLK, Inc., Milford, DE; Notice of Revised Determination on Reconsideration

By letter dated September 13, 2005 a company official requested administrative reconsideration regarding the Department's Negative Determination Regarding Eligibility to Apply for Worker Adjustment Assistance, applicable to the workers of the subject firm.

The initial investigation resulted in a negative determination signed on August 18, 2005 was based on the finding that imports of tablecloths, napkins, bedspreads and fabric shower curtains did not contribute importantly to worker separations at the subject plant and no shift of production to a foreign source occurred. The denial notice was published in the Federal Register on September 8, 2005 (70 FR 53389).

To support the request for reconsideration, the company official supplied additional information. Upon further review and contact with the subject firm's major declining customer, it was revealed that the customer increased its reliance on imported fabric shower curtains during the relevant period. The imports accounted for a meaningful portion of the subject plant's lost sales and production. The investigation further revealed that production and employment at the subject firm declined during the relevant time period.

In accordance with Section 246 of the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the additional facts obtained on reconsideration, I conclude that increased imports of articles like or directly competitive with those produced at Milford Stitching Company, Inc., a division of GLK, Inc., Milford, Delaware, contributed importantly to the declines in sales or production and to the total or partial separation of workers at the subject firm. In accordance with the provisions of the Act, I make the following certification:

All workers of Milford Stitching Company, Inc., a division of GLK, Inc., Milford, Delaware who became totally or partially separated from employment on or after July 18, 2004 through two years from the date of this certification, are eligible to apply for adjustment assistance under Section 223 of the Trade Act of 1974, and are eligible to apply for alternative trade adjustment assistance under Section 246 of the Trade Act of 1974.

Signed in Washington, DC this 30th day of September 2005.
Elliott S. Kushner,
Certifying Officer, Division of Trade Adjustment Assistance.

[FR Doc. E5-5608 Filed 10-12-05; 8:45 am]

BILLING CODE 4510-30-P